ENVIRONMENTAL PROTECTION AGENCY

[FRL-9812-8]

Draft Small Municipal Separate Storm Sewer System NPDES General Permit—New Hampshire; Extension of Comment Period

AGENCY: Environmental Protection Agency (EPA).

ACTION: Notice; extension of comment period.

SUMMARY: EPA issued a Notice of Availability of the draft Small Municipal Separate Storm Sewer System (MS4) National Pollutant Discharge Elimination System (NPDES) general permit for New Hampshire, published in the Federal Register on February 12, 2013. A 30 day extension to the original comment period was published in the Federal Register April 4, 2013 and the comment period is currently set to expire on May 15, 2013. This notice extends the comment period from May 15, 2013 to August 15, 2013.

DATES: Comments must be received on or before August 15, 2013.

ADDRESSES: Submit comments by one of the following methods:

• Email: Tedder.Newton@epa.gov.

• Mail: Newton Tedder, US EPA—Region 1, 5 Post Office Square—Suite 100, Mail Code—OEP06-4, Boston, MA 02109-3912.

No facsimiles (faxes) will be accepted.

FOR FURTHER INFORMATION CONTACT: Additional information concerning the draft permit may be obtained between the hours of 9:00 a.m. and 5:00 p.m. Monday through Friday excluding legal holidays from: Newton Tedder, Office of Ecosystem Protection, Environmental Protection Agency, 5 Post Office Square—Suite 100, Boston, MA 02109-3912; telephone: 617-918-1038; email: Tedder.Newton@epa.gov.

SUPPLEMENTARY INFORMATION:

This notice extends the public comment period established in the Federal Register issue of April 4, 2013 (78 FR 20316) (FRL-9799-1). In the February 12, 2013 issue of the Federal Register (78 FR 9908) (FRL-13-006 and 9779-7), EPA announced the availability for public comment of its draft small MS4 NPDES general permit for New Hampshire. In response to comments received during the Public Hearing, EPA extended the original comment period by 30 days and published the extension of comment period in the Federal Register on April 4, 2013. Currently, the comment period is set to expire on May 15, 2013. This extension is in response to additional requests received from several commenters to extend the comment period. EPA is hereby extending the comment period, which was set to end on May 15, 2013, to August 15, 2013.

Dated: May 2, 2013.
H. Curtis Spalding,
Regional Administrator, Region 1.

[FR Doc. 2013-11310 Filed 5-10-13; 8:45 am]

BILLING CODE 6560-50-P